DEPARTMENT OF EDUCATION

[Docket ID ED-2018-FSA-0080]

Privacy Act of 1974; Matching Program

AGENCY: Department of Education.

ACTION: Notice of a new matching program.

SUMMARY: This provides notice of the re-establishment of the matching program between the U.S. Department of Education (Department or ED) (recipient agency) and the U.S. Department of Veterans Affairs (VA) (source agency). The purpose of the matching program is to assist the Department with verification of a veteran's status during the processing of applications for financial assistance under title IV of the Higher Education Act of 1965, as amended (HEA).

DATES: Submit your comments on the proposed matching program on or before January 3, 2019.

The matching program will go into effect at the later of the following two dates: (1) January 2, 2019, or (2) 30 days after the publication of this notice, December 4, 2018, unless comments have been received from interested members of the public requiring modification and replication of the notice. The matching program will continue for 18 months after the effective date and may be extended for an additional 12 months, if the respective Data Integrity Boards (DIBs) of the Department and VA determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about these proposed regulations, address them to Marya Dennis, Management and Program Analyst, U.S. Department of Education, Federal Student Aid, Union Center Plaza, 830 First Street NE, Washington, DC 20002-5345.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Ms. Marya Dennis, Management and Program Analyst, U.S. Department of Education, Federal Student Aid, Union Center Plaza, 830 First Street NE, Washington, DC 20002-5345. Telephone: (202) 377-3385.

If you use a telecommunications device for the deaf (TDD) or a text telephone (TTY), call the Federal Relay Service (FRS), toll free at 1-800-877-8339.

SUPPLEMENTARY INFORMATION: We provide this notice in accordance with the Privacy Act of 1974, as amended (5 U.S.C. 552a); Office of Management and Budget (OMB) Final Guidance Interpreting the Provisions of Public Law 100-503, the Computer Matching and Privacy Protection Act of 1988, 54 FR 25818 (June 19, 1989); and OMB Circular No. A-108, 81 FR 94424 (December 23, 2016).

The prior Computer Matching Agreement (CMA) was published in the Federal Register on June 1, 2016 (81 FR 35003). Under the provisions of the Computer Matching and Privacy Protection Act of 1988, Public Law 100-503, the CMA was renewed for an additional 12 months through January 1, 2019, because: (1) The program was conducted without change; and (2) each Data Integrity Board Chairperson certified in writing that the program was conducted in compliance with the CMA. ED and VA are now re-establishing the matching program through this notice.

Participating Agencies

ED and VA.

Authority for Conducting the Matching Program

ED is authorized to participate in the matching program under sections 480(c)(1) and 480(d)(1)(D) of the HEA (20 U.S.C. 1087vv(c)(1) and (d)(1)(D)). VA is authorized to participate in the matching program under 38 U.S.C. 523.

Purpose(s)

The purpose of this matching program is to assist the Secretary of Education with verification of a veteran's status during the processing and review of applications for financial assistance under title IV of the Higher Education Act of 1965, as amended (HEA).

The Secretary of Education is authorized by the HEA to administer the title IV programs and to enforce the terms and conditions of the HEA.

Section 480(c)(1) of the HEA defines the term “veteran” to mean “any individual who (A) has engaged in the active duty in the United States Army, Navy, Air Force, Marines, or Coast Guard; and (B) was released under a condition other than dishonorable.” (20 U.S.C. 1087vv(c)(1)). Under section 480(d)(1)(D) of the HEA, an applicant who is a veteran (as defined in section 480(c)(1)) is considered an independent student for purposes of title IV, HEA program assistance eligibility, and, therefore, does not have to provide parental income and asset information to apply for title IV, HEA program assistance. (20 U.S.C. 1087vv(d)(1)(D)).

Categories of Individuals

Individuals who have completed the Free Application for Federal Student Aid (FAFSA) and have indicated that they are a veteran.

Categories of Records

ED will provide to the VA the Social Security number, first and last name, and date of birth of each applicant for financial assistance under title IV of the HEA who indicates veteran status in his or her application for financial assistance under title IV of the HEA.

System(s) of Records

ED system of records: Federal Student Aid Application File (18-11-01) (76 FR 46774, August 3, 2011).

VA system of records: Veterans and Beneficiaries Identification and Records Location Subsystem—VA (38VA21) last published in full at 47 FR 367 (January 5, 1982) and most recently amended at 66 FR 30049 (June 4, 2001).

Accessible Format: Individuals with disabilities can obtain this document in an accessible format (such as, Braille, large print, audiotape, or compact disc) on request to the contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: November 29, 2018.
James F. Manning,
Acting Chief Operating Officer, Federal Student Aid.

[FR Doc. 2018-26312 Filed 12-3-18; 8:45 am]

BILLING CODE 4000-01-P